DEPARTMENT OF LABOR

Employment and Training Administration

[TA-W-54,617]

General Electric, Coshocton, OH; Notice of Termination of Investigation

Pursuant to section 221 of the Trade Act of 1974, as amended, an investigation was initiated on March 30, 2004, in response to a petition filed by the United Steelworkers of America (USWA), Local 4377, on behalf of workers of General Electric, Coshocton, Ohio.

The petitioner has requested that the petition be withdrawn. Consequently, further investigation would serve no purpose and the investigation has been terminated.

Signed in Washington, DC this 14th day of April, 2004.
Linda G. Poole,
Certifying Officer, Division of Trade Adjustment Assistance.

[FR Doc. E4-1013 Filed 5-3-04; 8:45 am]

BILLING CODE 4510-13-P